DEPARTMENT OF TRANSPORTATION

Federal Aviation Administration

14 CFR Part 39

[Docket No. FAA-2000-8460; Notice No. 01-02]

RIN 2120-AH17

Airworthiness Directives

Correction

FR Doc. 01-3884 which was published in the issue of Thursday, February 15, 2001 at 66 FR 10360 appeared in the Rules and Regulations section. It should have appeared in the Proposed Rules section.

[FR Doc. C1-3884 Filed 2-27-01; 8:45 am]

BILLING CODE 1505-01-D

DEPARTMENT OF THE TREASURY

Internal Revenue Service

26 CFR Part 26

[TD 8912]

RIN 1545-AX08

Generation-Skipping Transfer Issues

Correction

In rule document 00-31757 beginning on page 79735 in the issue of Wednesday, December 20, 2000, make the following correction:

On page 79740, in the first column, in the ninth line, after “B's” remove “0”.

[FR Doc. C1-31757 Filed 2-27-01; 8:45 am]

BILLING CODE 1505-01-D